Title 3—

The President

Proclamation 10015 of April 24, 2020

World Intellectual Property Day, 2020

By the President of the United States of America

A Proclamation

Our Nation's history is defined by discovery, ingenuity, and innovation. Americans are known for their resourcefulness and ability to find solutions to a wide range of challenges, including the development of technologies that advance our security, health, and prosperity. This resourcefulness has been a driving force of economic growth and human development since the founding of our Nation, and our future depends on the continued protection of our intellectual property. On World Intellectual Property Day, we renew our resolve to protect and secure the works and innovations of American artists, inventors, and other creators who continually push the boundaries of human knowledge and understanding.

Our Founding Fathers recognized the vital role that intellectual property plays in society and in supporting a robust economy. The Intellectual Property Clause of the Constitution reflects their understanding that laws must be in place to “promote the progress of science and useful arts, by securing for limited times to authors and inventors the exclusive right to their respective writings and discoveries.” More than two centuries later, we remain committed to this idea, upholding and strengthening an intellectual property system that encourages greater American innovation and advances our global competitiveness.

My Administration is building on our Nation's history of securing intellectual property rights. In the United States, intellectual property-intensive industries account for nearly one-third of all employment and approximately 40 percent of our country's gross domestic product, an estimated $6.6 trillion. To support these industries, in January of this year I signed the United States-Mexico-Canada Agreement (USMCA) into law, replacing the outdated and unbalanced North American Free Trade Agreement. USMCA furthers my Administration's pro-growth agenda by establishing ground-breaking protections for trade secrets, strengthening border security, and enhancing trademark, copyright, and patent provisions. These are the most comprehensive intellectual property standards ever included in a free trade agreement. Additionally, earlier this year I signed an Executive Order on Ensuring Safe and Lawful E-Commerce for United States Consumers, Businesses, Government Supply Chains, and Intellectual Property Rights Holders, which is aimed at finding improved ways to protect intellectual property rights holders from an increasing amount of counterfeit and pirated goods marketed online.

The importance of intellectual property has never been more apparent than it is now, as we continue the ongoing battle against the coronavirus. To respond to this national and international emergency, the Federal, State, and local Governments have partnered with the private sector to develop new and powerful tools to combat the spread of the virus and provide care to those in need, focusing every available resource on the fight against the invisible enemy. Relying on strong intellectual property protections, these industries are able to act boldly to invent new tests, begin developing experimental treatments and vaccines, and rapidly produce and reengineer medical equipment to help win this war. These efforts are saving tens of thousands of lives and reflect the unrivaled power of American industry and innovation.

This month, we pay tribute to our Nation's long history of ingenuity and advancement, and we recommit to protecting, promoting, and prioritizing a business and economic environment that supports those who carry on this legacy. The pioneering spirit of these artists, authors, inventors, and other creators has improved our lives and the lives of millions of people around the world, and will continue to propel us toward a better future.

NOW, THEREFORE, I, DONALD J. TRUMP, President of the United States of America, by virtue of the authority vested in me by the Constitution and the laws of the United States, do hereby proclaim April 26, 2020, as World Intellectual Property Day. I encourage Americans to observe this day to celebrate the benefits of intellectual property to our economy and our country.

IN WITNESS WHEREOF, I have hereunto set my hand this twenty-fourth day of April, in the year of our Lord two thousand twenty, and of the Independence of the United States of America the two hundred and forty-fourth.

[FR Doc. 2020-09263

Filed 4-28-20; 11:15 am]

Billing code 3295-F0-P